OFFICE OF PERSONNEL MANAGEMENT

5 CFR Part 532

RIN 3206-AJ24

Prevailing Rate Systems; Abolishment of the St. Louis, MO, Special Wage Schedule for Printing Positions

AGENCY: Office of Personnel Management.

ACTION: Interim rule with request for comments.

SUMMARY: The Office of Personnel Management is issuing an interim rule to abolish the St. Louis, MO, Federal Wage System (FWS) special wage schedule for printing positions. Printing and lithographic employees in the St. Louis wage area will now be paid from the regular St. Louis appropriated fund FWS wage area schedule. This change is necessary because there are no longer enough printing and lithographic employees in the wage area to conduct the local special wage survey successfully.

DATES: Effective Date: This regulation is effective on October 16, 2000.

Applicability Date: Agencies will place employees who are paid from the St. Louis special wage schedule on the St. Louis regular wage schedule on December 17, 2000.

ADDRESSES: Send or deliver comments to Donald J. Winstead, Assistant Director for Compensation Administration, Workforce Compensation and Performance Service, Office of Personnel Management, Room 7H31, 1900 E Street NW., Washington, DC 20415-8200, or FAX: (202) 606-4264.

FOR FURTHER INFORMATION CONTACT: Chenty I. Carpenter at (202) 606-8359; by FAX at (202) 606-4264; or by email at cicorrea@opm.gov.

SUPPLEMENTARY INFORMATION: The Office of Personnel Management (OPM) is abolishing the St. Louis, MO, Federal Wage System (FWS) special wage schedule for printing positions. The Department of Defense (DOD) recommended that we abolish this special wage schedule because it has become extremely difficult for DOD to release adequate numbers of employees to conduct the local special wage survey successfully.

The number of printing and lithographic employees in the wage area has declined from 225 employees in 1985 to 17 employees currently. These employees work in various locations throughout the St. Louis wage area. Twelve of these employees work for the Defense Logistics Agency, four work for the Department of the Army, and one works for the National Guard Bureau. DOD has found it increasingly difficult to comply with the requirement that employees paid from the special printing schedule participate in the local special wage survey process. The decline in employees is expected to continue until there are no longer any printing and lithographic employees in the wage area.

Printing and lithographic employees will convert to the St. Louis FWS regular wage schedule on a grade for grade basis. Each employee's new rate of pay will be set at the step rate for the applicable grade of the regular wage schedule that equals the employee's existing rate of pay. If an employee's existing pay rate falls between two steps on the regular schedule, the new rate will be set at the higher of the two steps. If an employee's existing pay rate is higher than the highest rate for his or her grade on the regular schedule, the employee will, if otherwise eligible, be entitled to pay retention.

The Federal Prevailing Rate Advisory Committee, the national labor-management committee that advises OPM on FWS pay matters, reviewed and concurred by consensus with this change.

Regulatory Flexibility Act

I certify that this regulation will not have a significant economic impact on a substantial number of small entities because it will affect only Federal agencies and employees.

List of Subjects in 5 CFR Part 532

Administrative practice and procedure, Freedom of information, Government employees, Reporting and recordkeeping requirements, Wages.

U.S. Office of Personnel Management.
Janice R. Lachance,
Director.

Accordingly, the Office of Personnel Management amends 5 CFR part 532 as follows:

PART 532—PREVAILING RATE SYSTEMS

1. The authority citation for part 532 continues to read as follows:

Authority: 5 U.S.C. 5343, 5346; § 532.707 also issued under 5 U.S.C. 552.

2. In § 532.279, paragraph (j) is revised to read as follows:

§ 532.279 Special Wage schedules for printing positions.

* * * * *

(j) A special printing schedule is authorized in the Washington, DC, wage area.

[FR Doc. 00-23589 Filed 9-13-00; 8:45 am]

BILLING CODE 6325-01-P